DEPARTMENT OF HOMELAND SECURITY

Coast Guard

[CGD07-05-049]

Implementation of Sector Charleston and Marine Safety Unit Savannah

AGENCY: Coast Guard, DHS.

ACTION: Notice of organizational change.

SUMMARY: The Coast Guard announces the stand-up of Sector Charleston and Marine Safety Unit (MSU) Savannah. The Sector Charleston Commanding Officer will have the authority, responsibility and missions of a Group Commander, COTP and Commanding Officer, Marine Safety Office (MSO). The Coast Guard has established a continuity of operations whereby all previous practices and procedures will remain in effect until superseded by an authorized Coast Guard official and/or document.

DATES: The effective date of sector stand-up is May 13, 2005.

ADDRESSES: Documents indicated in this preamble as being available in the docket are part of docket CGD07-05-049 and are available for inspection or copying at District 7 Resources, 9th Floor, 909 SE., 1st Avenue, Miami, FL 33131 between 7:30 a.m. and 4:30 p.m., Monday through Friday, except Federal Holidays.

FOR FURTHER INFORMATION CONTACT: Lieutenant Carlos A. Cuesta, District 7 Resources Program at 305-415-6706.

SUPPLEMENTARY INFORMATION:

Discussion of Notice

This notice announces the stand-up of Sector Charleston and MSU Savannah. Upon creation of Sector Charleston, Group Charleston, Base Charleston and MSO Charleston's OPFAC will be cancelled. MSO Savannah will be renamed MSU Savannah and will report directly to the Sector Charleston Commander. Sector Charleston will be composed of a Response Department, Prevention Department, and Logistics Department. All existing missions and functions performed by Group Charleston, Base Charleston, MSO Charleston and MSO Savannah are realigned under this new organizational structure as of May 13, 2005.

Sector Charleston is responsible for all Coast Guard missions in the Charleston Marine Inspection Zone, COTP zone, and Area of Responsibility (AOR). The Commanding Officer of MSU Savannah shall only be responsible for all COTP and OCMI functions within the Savannah COTP sub-zone and marine inspection sub-zone. The overall Sector Charleston AOR includes the Charleston marine inspection zone and COTP zone and the Savannah marine inspection sub-zone and Savannah COTP sub-zone. A continuity of operations order has been issued to address existing COTP regulations, orders, directives and policies.

The boundary of the Charleston marine inspection zone and COTP zone starts at the sea at the intersection of the North and South Carolina boundary; thence proceeds westerly along the North and South Carolina boundary to the intersection of the North Carolina, South Carolina and Georgia boundaries; thence southerly along the South Carolina and Georgia boundary to the federal dam at the southern end of the Hartwell Reservoir; thence southerly along the eastern bank of the Savannah River to the northern tip of Tybee Island, Georgia. The offshore boundary starts at a line bearing 122° true from the intersection of the South Carolina and North Carolina boundary; thence seaward to the outermost extent of the exclusive economic zone; thence southerly along the outermost extent of the exclusive economic zone to 30°50′ N; thence westerly along 30°50′ N latitude to 30°50′ N, 78°35′ W; thence northwesterly along a line bearing 302° true to the northern tip of Tybee Island, Georgia.

The boundary of the Savannah COTP sub-zone and inspection sub-zone starts at the sea at the northern tip of Tybee Island, Georgia; thence northwesterly along the eastern bank of the Savannah River to the intersection of the South Carolina and Georgia boundary and the Federal dam at the southern end of the Hartwell Reservoir; thence northerly along the South Carolina and Georgia boundary to the intersection of the North Carolina, South Carolina and Georgia boundaries; thence westerly along the Georgia and North Carolina boundary and continuing westerly along the Georgia and Tennessee boundary to the intersection of the Georgia, Tennessee and Alabama boundaries; thence southerly along the Georgia and Alabama boundary to 32°53′ N; thence southeasterly to the eastern bank of the Flint river at 32°20′ N; thence southerly along the eastern bank of the Flint river and continuing southerly along the southeastern shore of the Jim Woodruff reservoir to 84°45′ W; thence southerly to the intersection of the Florida and Georgia boundary; thence easterly along the Florida and Georgia boundary to 82°15′ W; thence north to 30°50′ N, 82°15′ W; thence east to the sea. The offshore boundary starts at a line bearing 122° true from the northern tip of Tybee Island, Georgia to the intersection of 30°50′ N; thence westerly along 30°50′ N latitude to the coast. The COTP Savannah boundary includes all waters of the Savannah River including adjacent waterfront facilities located in South Carolina. All coordinates referenced utilize datum NAD 1983.

The Sector Charleston Commander is vested with all the rights, responsibilities, duties, and authority of a Group Commander and Commanding Officer, Marine Safety Office, as provided for in Coast Guard regulations, and is the successor in command to the Commanding Officer, Group Charleston and Commanding Officer, MSO Charleston. The Sector Charleston Commander is designated: (a) Captain of the Port (COTP) for the Charleston COTP zone; (b) Federal Maritime Security Coordinator (FMSC), Charleston; (c) Federal On Scene Coordinator (FOSC) for the Charleston COTP zone, consistent with the National Contingency Plan; (d) Officer In Charge of Marine Inspection (OCMI) for the Charleston Marine Inspection Zone and, (e) Search and Rescue Mission Coordinator (SMC). The Deputy Sector Commander is designated alternate COTP, FMSC, FOSC, SMC and Acting COTP.

The Commanding Officer, MSU Savannah is designated: (a) Captain of the Port (COTP) for the Savannah COTP sub-zone; (b) Federal Maritime Security Coordinator (FMSC) for the Savannah COTP sub-zone; (c) Federal On Scene Coordinator (FOSC) for the Savannah COTP sub-zone, consistent with the National Contingency Plan and, (d) Officer In Charge of Marine Inspection (OCMI) for the Savannah Marine Inspection sub-zone. A chart depicting sector Charleston and the Savannah sub-zone is available in the docket for this notice, where indicated under ADDRESSES.

The following information is a list of updated command titles, addresses and points of contact to facilitate requests from the public and assist with entry into security or safety zones.

Name: Sector Charleston.

Address: Commander, U.S. Coast Guard Sector Charleston, 196 Tradd Street, Charleston, SC 29401.

Contact:

Sector Commander: CDR John E. Cameron, (843) 720-3297.

Deputy Sector Commander: CDR June Ryan, (843) 724-7625.

Chief, Response Dept: LCDR Thomas Allan, (843) 724-7626.

Chief, Prevention Dept: LCDR David Murk, (843) 720-3298.

Chief, Logistics Dept: LT Kevin Floyd, (843) 720-3271.

Name: MSU Savannah.

Address: Commander, U.S. Coast Guard MSU Savannah, 100 W. Oglethorpe Avenue, Ste. 1017, Savannah, GA 31401.

Contact: MSU Commanding Officer: CDR Michael Drieu, (912) 652-4353.

Dated: May 4, 2005.
W.E. Justice,
Captain, U.S. Coast Guard, Acting Commander, Seventh Coast Guard District.

[FR Doc. 05-11450 Filed 6-8-05; 8:45 am]

BILLING CODE 4910-15-P